FEDERAL HOUSING FINANCE BOARD

Sunshine Act Meeting Notice; Announcing a Closed Meeting of the Board of Directors

Time and Date: A closed meeting of the Board of Directors is scheduled to begin at 10 a.m. on Wednesday, February 15, 2006.

Place: Board Room, First Floor, Federal Housing Finance Board, 1625 Eye Street NW., Washington DC 20006.

Status: The meeting will be closed to the public.

Matter to be Considered at the Meeting: Periodic Update of Examination Program Development and Supervisory Findings.

FOR FURTHER INFORMATION CONTACT: Shelia Willis, Paralegal Specialist, Office of General Counsel, at 202-408-2876 or williss@fhfb.gov.

By the Federal Housing Finance Board.
Dated: February 8, 2006.
John P. Kennedy,
General Counsel.

[FR Doc. 06-1321 Filed 2-8-06; 4:01 pm]

BILLING CODE 6725-01-P